DEPARTMENT OF THE INTERIOR

Fish and Wildlife Service

Notice of Availability of the Mead's Milkweed (Asclepias meadii) Draft Recovery Plan for Review and Comment

AGENCY: Fish and Wildlife Service, Interior.

ACTION: Notice of document availability.

SUMMARY: The U.S. Fish and Wildlife Service (Service) announces availability for public review of the draft recovery plan for the Mead's milkweed, a species that is federally listed as threatened under the Endangered Species Act of 1973 (Act). The purpose of this plan is to recover this species in order that it can be removed from the list of Threatened and Endangered Species. This species occurs or may occur on public and private land in Illinois, Indiana, Iowa, Kansas, Missouri, and Wisconsin. The Service solicits review and comment from the public on this draft plan.

DATES: Comments on the draft recovery plan must be received on or before May 16, 2003.

ADDRESSES: Persons wishing to review the draft recovery plan may obtain a copy by contacting the Field Supervisor, U.S. Fish and Wildlife Service, Chicago, Illinois, Ecological Services Field Office, 1250 South Grove Avenue, Suite 103, Barrington, Illinois 60010-5091 or by accessing the Web site: http://midwest.fws.gov/Endangered.

FOR FURTHER INFORMATION CONTACT: Mr. Kristopher Lah, (847) 381-2253. TTY users contact the Federal Relay Service at (800) 877-8339.

SUPPLEMENTARY INFORMATION:

Background

Restoring an endangered or threatened animal or plant to the point where it is again a secure self-sustaining member of its ecosystem is a primary goal of the Service's endangered species program. To help guide the recovery effort, the Service is working to prepare recovery plans for most of the Federally listed threatened and endangered species native to the United States. Recovery plans describe actions considered necessary for conservation of the species, establish criteria for reclassification and delisting, and provide estimates of the time and costs for implementing the recovery measures needed.

The Act requires the development of recovery plans for listed species unless such a plan would not promote the conservation of a particular species. Section 4(f) of the Act, as amended in 1988, requires public notice and opportunity for public review and comment be provided during recovery plan development. The Service will consider all information presented during a public comment period prior to approval of each new or revised recovery plan. The Service and other Federal agencies will also take these comments into consideration in the course of implementing approved recovery plans.

The Mead's milkweed was listed as threatened on September 1, 1988. The species is known to persist at 171 sites in 34 counties in eastern Kansas, Missouri, south-central Iowa, and southern Illinois. Populations no longer occur in Wisconsin and Indiana. Seventy-five percent of the Mead's milkweed populations are in the Osage Plains Physiographic Region in Kansas and Missouri. The remainder of the populations occur in the Shawnee Hills of Illinois; the Southern Iowa Drift Plain in Iowa; the Glaciated Plains, Ozark Border, Ozark Springfield Plateau, and the Ozark-St. Francois Mountains of Missouri; and the Glaciated Physiographic Region of Kansas. Mead's milkweed populations have been eliminated by wide-scale agriculture in the eastern part of the species' range. Many large populations occur in private hay meadows where a century of annual mowing, which prevents sexual reproduction, has severely reduced genetic diversity. Among the surviving populations in eastern Missouri, Illinois and Iowa, most apparently consist of a few genetically invariant clones that are incapable of sexual reproduction. Population restoration efforts are being made in Illinois, Indiana, and Wisconsin by introducing Mead's milkweed into suitable habitat.

Mead's milkweed occurs primarily in tallgrass prairie, and occasionally in thin-soil glades or barrens. This plant is essentially restricted to late-successional prairie habitat, which has never been plowed and only lightly grazed, or hay meadows that are cropped annually for hay. Plants reproduce sexually by seed and spread vegetatively by rhizomes, especially under midsummer haymowing regimes. As with other native milkweeds, Mead's is either self-incompatible or subject to severe inbreeding depression. Mead's milkweed populations that are managed by prescribed burning experience an increase in flowering, reproduction, and seedling establishment and are more genetically diverse than sites that are mowed.

In order to accomplish recovery, the following actions are recommended in the draft recovery plan: (1) Protect habitat; (2) manage habitat; (3) increase size and number of populations; (4) conduct field surveys for new population occurrences or potential habitat for introduction; (5) conduct research on restoration, management and introduction techniques; (6) maintain conservation populations; (7) promote public understanding; and (8) review and track recovery progress.

Recovery will be achieved, and the species may be removed from the list of Threatened and Endangered Species when the following criteria are met: (1) 26 populations are distributed across plant communities and physiographic regions within the historic range of the species, (2) each of these 26 populations is highly viable, and (3) monitoring data indicates that these populations have been stable or increasing for 15 years.

Public Comments Solicited

The Service solicits written comments on the recovery plan described. All comments received by the date specified will be considered prior to approval of the plan. Written comments and materials regarding the plan should be sent to the Field Supervisor, Ecological Services Field Office (see ADDRESSES section). Comments received will be available for public inspection by appointment during normal business hours.

Authority: The authority for this action is section 4(f) of the Endangered Species Act, 16 U.S.C. 1533(f).

Dated: February 19, 2003.
Charles M. Wooley,
Assistant Regional Director, Ecological Services, Region 3.

[FR Doc. 03-6265 Filed 3-14-03; 8:45 am]

BILLING CODE 4310-55-P